TENNESSEE VALLEY AUTHORITY

Agency Information Collection Activities: Submission for OMB Review; Comment Request

AGENCY: Tennessee Valley Authority (TVA).

ACTION: 30-Day notice of submission of information collection renewal approval request to OMB.

SUMMARY: Tennessee Valley Authority (TVA) provides notice of submission of this information clearance request (ICR) to the Office of Management and Budget (OMB) for review and approval in accordance with the Paperwork Reduction Act of 1995 (PRA). The general public and other federal agencies are invited to comment. TVA previously published a 60-day notice of the proposed information collection renewal for public review (March 17, 2022) and a notice of correction (March 24, 2022), and no comments were received.

DATES: The OMB will consider all written comments received on or before June 24, 2022.

ADDRESSES: Written comments for the proposed information collection should be sent within 30 days of publication of this notice to www.reginfo.gov/public/do/PRAMain. Find this particular information collection by selecting “Currently under 30-day Review—Open for Public Comments” or by using the search function.

SUPPLEMENTARY INFORMATION:

Type of Request: Renewal with minor modification.

Title of Information Collection: Section 26a Permit Application.

Frequency of Use: On occasion.

Type of Affected Public: Individuals or households, state or local governments, farms, businesses, or other for-profit, Federal agencies or employees, non-profit institutions, small businesses or organizations.

Small Businesses or Organizations Affected: Yes.

Federal Budget Functional Category Code: 455.

Estimated Number of Annual Responses: 2,600.

Estimated Total Annual Burden Hours: 5,200.

Estimated Average Burden Hours per Response: 2.0.

Need For and Use of Information: TVA Land Management activities and Section 26a of the Tennessee Valley Authority Act of 1933, as amended, require TVA to collect information relevant to projects that will impact TVA land and land rights and review and approve plans for the construction, operation, and maintenance of any dam, appurtenant works, or other obstruction affecting navigation, flood control, or public lands or reservations across, along, or in the Tennessee River or any of its tributaries. The information is collected via paper forms and/or electronic submissions (e.g., Joint Application Form (TVA Form 17423), Section 26a Permit and Land Use Application: Applicant Disclosure Form (TVA Form 17423A), Tennessee Valley Authority Floating Cabin Registration Form (TVA Form 21158), Tennessee Valley Authority Floating Cabin Electrical Certification Form (TVA Form 21382), and Tennessee Valley Authority Floating Cabin Wastewater Discharge Certification Form (TVA Form 21383) and/or electronic submissions. The information is used to assess the impact of the proposed project on TVA land or land rights and statutory TVA programs to determine if the project can be approved. Rules for implementation of TVA's Section 26a responsibilities are published in 18 CFR part 1304.

Rebecca L. Coffey,
Agency Records Officer.

[FR Doc. 2022-11182 Filed 5-24-22; 8:45 am]

BILLING CODE 8120-08-P